DEPARTMENT OF ENERGY

Federal Energy Regulatory Commission

Docket No. DI10-9-000

Domtar Maine LLC; Notice of Petition for Declaratory Order and Soliciting Comments, Protests, and/or Motions To Intervene

March 25, 2010.

Take notice that the following application has been filed with the Commission and is available for public inspection:

a. Application Type: Petition for Declaratory Order.

b. Docket No.: DI10-9-000.

c. Date Filed: March 5, 2010.

d. Applicant: Domtar Maine LLC.

e. Name of Project: Forest City (FERC No. 2660), Vanceboro (FERC No. 2492), and West Branch (FERC No. 2618).

f. Location: East Branch of the St. Croix River, in Washington and Aroostook Counties, Maine; at the outlet of Spednick Lake near Vanceboro, Maine; and West Branch of St. Croix River in Washington, Hancock, and Penobscot Counties, Maine, respectively.

g. Filed Pursuant to: Section 23(b)(1) of the Federal Power Act, 16 U.S.C. 817(b).

h. Applicant Contact: Matthew D. Manahan, One Monument Square, Portland, ME 04101; e-mail: mmanahan@pierceatwood.com; telephone: (207) 791-1189; Fax: (207) 791-1350.

i. FERC Contact: Any questions on this notice should be addressed to Henry Ecton, (202) 502-8768, or e-mail address: henry.ecton@ferc.gov.

j. Deadline for filing comments, protests, and/or motions: April 26, 2010.

All documents may be filed electronically via the Internet. See 18 CFR 385.2001(a)(1)(iii) and the instructions on the Commission's Web site at http://www.ferc.gov under the “e-Filing” link. If unable to be filed electronically, documents may be paper-filed. To paper-file, an original and eight copies should be filed with: Secretary, Federal Energy Regulatory Commission, 888 First Street, NE., Washington, DC 20426. For more information on how to submit these types of filings, please go to the Commission's Web site at http://www.ferc.gov/filing-comments.asp.

Please include the docket number (DI10-9-000) on any comments, protests, and/or motions filed.

k. Description of Project: The existing Forest City Project (P-2660) consists of all United States portions of the following project works: (1) Forest City Dam, a 16-foot-high, 500-foot-long earth embankment dam, containing a gated timber spillway structure 65 feet wide, with 3 gates and a fish passage facility; (2) a reservoir (East Grand Lake) with a surface area of 16,070 acres at elevation 434.94 feet m.s.l., and storage capacity of 205,300 acre-feet; and (3) other appurtenances.

The existing Vanceboro Project (P-2492) consists of: (1) A concrete section approximately 69 feet long, including a spillway section with two tainter gates (each about 22.5 feet long), and a fishway about 8 feet wide; (2) earth embankment at each end (total length approximately 400 feet); (3) a reservoir (the portion of Spednick Lake within the United States); and (4) appurtenant facilities.

The existing West Branch Project (P-2618) consists of:

(A) West Grand Lake development: (1) West Grand Lake Dam, earth embankment and gravel-filled timber crib structure, 485 feet long and 13 feet high, containing a gated spillway structure, 77 feet wide with 5 gates and a fish passage facility 24 feet wide; (2) a reservoir with surface area of 23.825 acres at elevation 301.43 feet m.s.l. and storage capacity of 160,000 acre-feet; and (3) other appurtenances; and

(B) Sysladobsis Lake development: (1) Sysladobsis Lake Dam, an earth embankment structure, 250 feet long and 5.5 feet high, with a concrete cut-off wall and rock masonry downstream face, containing a gated spillway structure 23 feet wide with 2 gates, and a fish passage facility 7 feet wide; (2) a reservoir with surface area of 5,400 acres at elevation 305.62 feet m.s.l., and storage capacity of 25,000 acre-feet; and (3) other appurtenances.

The above-referenced reservoirs supply water to three downstream generating facilities: Grand Falls, Woodland, and Milltown. These three generating facilities do not require licensing by the Commission because they were authorized by a 1916 Act of Congress that predated the 1920 enactment of what is now part I of the Federal Power Act. The issue raised by Domtar Maine LLC's petition is whether the above-referenced storage reservoirs are required to be licensed under section 23(b)(1) of the Federal Power Act. Domtar Maine LLC states that the projects are not required to be licensed because they contribute only a de minimis amount to power generated at the downstream generating projects, and they are not connected to a FERC-licensed project.

When a Petition for Declaratory Order is filed with the Commission, requesting a jurisdictional determination for an existing project, a review is begun to determine if the interests of interstate or foreign commerce are affected by the project. The Commission also determines whether or not the project: (1) Is located on a navigable waterway; (2) is occupying or affecting public lands or reservations of the United States; (3) is utilizing surplus water or water power from a government dam; or (4) if applicable, has undertaken any construction subsequent to 1935 that may have increased the project's head or generating capacity, or has otherwise significantly modified the project's pre-1935 design or operation.

l. Locations of the Application: Copies of this filing are on file with the Commission and are available for public inspection. This filing may be viewed on the Web at http://www.ferc.gov using the “eLibrary” link. Enter the docket number excluding the last three digits in the docket number field to access the document. You may also register online at http://www.ferc.gov/docs-filing/esubscription.asp to be notified via e-mail of new filings and issuances related to this or other pending projects. For assistance, please contact FERC Online Support at FERCOnlineSupport@ferc.gov or toll-free at (866) 208-3676, or TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTESTS”, AND/OR “MOTIONS TO INTERVENE”, as applicable, and the Docket Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-7293 Filed 3-31-10; 8:45 am]

BILLING CODE 6717-01-P